FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

A & J Cargo Logistics Inc. (OFF), 8245 NW 36th Street, Ste. 5, Miami, FL 33166, Officer: Jose L. Iglesias, President/Secretary/Treasurer, (Qualifying Individual), Application Type: New OFF License.

A.J. Arango, Inc. (OFF), 1516 E. 8th Avenue, Tampa, FL 33605, Officers: Roslyn A. McKenna, Vice President, (Qualifying Individual), James Alberdi, President, Application Type: QI Change.

American Red Ball International, Inc. (NVO & OFF), 9750 3rd Avenue NE, Suite #200, Seattle, WA 98115, Officers: John Griffin, President, (Qualifying Individual), Jim Gaw, Vice President, Application Type: QI Change.

American Vanpac Carriers, Inc. (NVO & OFF), 9750 3rd Avenue NE, Seattle, WA 98115, Officers: John Griffin, President, (Qualifying Individual), Jim Gaw, Vice President, Application Type: QI Change.

Atlas Van Lines International Corp. (OFF), 9750 3rd Avenue NE, #200, Seattle, WA 98115, Officers: John Griffin, President, (Qualifying Individual), Jim Gaw, Vice President, Application Type: QI Change.

Capital Logistics CHB Corp. (NVO & OFF), 6000 NW 97th Avenue, #9-10, Miami, FL 33178, Officers: Manuel G. Viegas, President, (Qualifying Individual), Francisco A. Neves, Vice President, Application Type: Name Change.

Cargo Infinity USA, Inc. (NVO & OFF), 9420 Telstar Avenue, Suite 108, El Monte, CA 91731, Officers: Jean L. Niu, President, (Qualifying Individual), Ada Lai Y. Lee, Director, Application Type: Add NVO Service.

Cargonauts USA Corp. (NVO & OFF), 10913 NW 30th Street, Suite 107, Doral, FL 33172, Officer: Miguel O. Gonzalez, President/Secretary, (Qualifying Individual), Application Type: New NVO & OFF License.

Coco's International Movers Inc. (OFF), 12606 NW 115th Avenue, Miami, FL 33178, Officers: Macarena L. Scalia, Director, (Qualifying Individual),Monica P. Pauley, Director, Application Type: New OFF License.

Eastern Express Cargo Inc. dba Eastern Express (NVO), 10717 Camino Ruiz, #119, San Diego, CA 92126, Officers: Alex O. De Guzman, President, (Qualifying Individual), Abraham B. Lanuzga, Vice President, Application Type: Business Structure Change.

Embarque Bandera Shipping, Inc. (NVO), 421 Audubon Avenue, New York, NY 10033, Officer: Amelio De Jesus Cabrera, President/Secretary, (Qualifying Individual), Application Type: New NVO License.

Embarque La Espanola Corp. (NVO), 31-01 102nd Street, East Elmhurst, NY 11369, Officers: Jose L. Jorge, Secretary, (Qualifying Individual), Juan A. Peralta, President, Application Type: New NVO License.

Genex Logistics, LLC (NVO & OFF), 169 Crown Avenue, Staten Island, NY 10312, Officers: Genevieve Fortunato, Managing Member, (Qualifying Individual), Stewart A. Fortunato, Managing Member, Application Type: License Transfer.

Headwin Global Logistics (USA) Inc. (NVO), 11222 S. La Cienega Blvd., Suite 148, Inglewood, CA 90304, Officers: Bing S. Jiang, CFO, Joanne Gong, Secretary/Treasurer, (Qualifying Individuals), Application Type: QI Change.

JDB Logistics, Inc. (NVO & OFF), 780-A Apex Road, Sarasota, FL 34240, Officers: Karen L. Ambrosia, President, (Qualifying Individual), Richard Glanz, Vice President/Secretary, Application Type: License Transfer.

JP Forwarding Inc. (NVO & OFF), 407 Berry Street, Suite 5L, Brooklyn, NY 11211, Officer: Joel Parnes, President/Secretary/Treasurer, (Qualifying Individual), Application Type: New NVO & OFF License.

Mitsubishi Corporation LT USA (NVO & OFF), 1515 E. Woodfield Road, Suite 365, Schaumburg, IL 60173, Officer: Keiju Yamazaki, President, (Qualifying Individual), Mark Boulware, Secretary, Application Type: QI Change.

Ocean Wave, Inc (NVO), 3415 39th Avenue CT. NW, Gig Harbor, WA 98335, Officer: Karen M. Teng-Raine, President/VP/Treas./Sec., (Qualifying Individual), Application Type: New OFF License.

Sterling Relocation Americas Inc (OFF), 187 Danbury Road, Wilton, CT 06897, Officers: Timothy M. Trout, Vice President Transportation Services, (Qualifying Individual), Rupert O. Morley, CEO, Application Type: New OFF License.

SDS Trans Inc. (NVO & OFF), 145-38 157th Street, 1st Floor, Jamaica, NY 11434, Officer: Si Yual An, President, (Qualifying Individual), Application Type: Name Change.

Tatra Shipping Co. (OFF), 8904 S. Harlem Avenue, Unit C, Bridgeview, IL 60455, Officers: Peter Mincik, President, (Qualifying Individual), Zuzana Fidrikova, Secretary, Application Type: New OFF License.

Trans Knights Inc. (NVO & OFF), 20955 Pathfinder Road, Suite 222, Diamond Bar, CA 91765, Officer: Rachel Zhu, President, (Qualifying Individual), Application Type: Add OFF Service.

Unifreight Logistics, Inc. (NVO & OFF), 9133 S. La Cienega Blvd., #245, Inglewood, CA 90301, Officer: John C. Chang, President/CFO/Secretary, (Qualifying Individual), Application Type: New NVO & OFF License.

V R Logistics Incorporated (NVO & OFF), 30 Sheryl Drive, Edison, NJ 08820, Officers: Govind (Gary) Bhagat, Vice President/Treasurer, (Qualifying Individual), Vanita G. Bhagat, President, Application Type: New NVO & OFF License.

VIP Cargo Services Limited Liability Company (NVO), 14 Mountain Avenue, North Plainfield, NJ 07060-4127, Officer: Raja E. Ahmed, President, (Qualifying Individual), Application Type: New NVO License.

Wilson Transportation, Inc. (NVO & OFF), 16226 Foster Street, Overland Park, KS 66085, Officers: Jerry G. Owen, Vice President, (Qualifying Individual), Mark A. Wilson, President/Treasurer/Secretary, Application Type: Add NVO Service.

World Wide Express LLC (NVO), 6000 NW 32 Ct., Miami, FL 33142, Officers: Marius Marcinkevicius, Manager, (Qualifying Individual), Jonas Vencius, Manager, Application Type: New OFF License.

Dated: April 29, 2011.
Rachel E. Dickon,
Assistant Secretary.

[FR Doc. 2011-10933 Filed 5-4-11; 8:45 am]

BILLING CODE 6730-01-P